DEPARTMENT OF ENERGY

Methane Hydrate Advisory Committee

AGENCY: Office of Fossil Energy, Department of Energy.

ACTION: Notice of open meeting.

SUMMARY: This notice announces a meeting of the Methane Hydrate Advisory Committee. The Federal Advisory Committee Act requires that notice of these meetings be announced in the Federal Register.

DATES:

Tuesday, April 23, 2019

8:30 a.m. to 9:00 p.m. (CST)—Registration

9:00 a.m. to 5:00 p.m. (CST)—Meeting

Wednesday, April 24, 2019

8:30 a.m. to 5:00 p.m. (CST)—Meeting

ADDRESSES: Hilton Americas-Houston, 1600 Lamar; Room 337, Houston, Texas 77010.

FOR FURTHER INFORMATION CONTACT: Gabby Intihar, U.S. Department of Energy, Office of Oil and Natural Gas, 1000 Independence Avenue SW, Washington, DC 20585. Phone: (202) 586-2092.

SUPPLEMENTARY INFORMATION:

Purpose of the Committee: The purpose of the Methane Hydrate Advisory Committee is to provide advice on potential applications of methane hydrate to the Secretary of Energy, and assist in developing recommendations and priorities for the Department of Energy's Methane Hydrate Research and Development Program.

Tentative Agenda: The agenda will include: Welcome and Introduction by the Designated Federal Officer; Committee Business; Committee Chair Update to Secretary's November 12th Letter; Update on Methane Hydrate National Energy Technology Laboratory Research Innovation Center Activities; Overview of Major Projects Alaska North Slope and Gulf of Mexico; Advisory Committee Gas Hydrates Roadmap Development and Discussion; and Public Comments, if any.

Public Participation: The meeting is open to the public. The Designated Federal Officer and the Chair of the Committee will conduct the meeting to facilitate the orderly conduct of business. If you would like to file a written statement with the Committee, you may do so either before or after the meeting. If you would like to make oral statements regarding any of the items on the agenda, you should contact Gabby Intihar at the phone number listed above and provide your name, organization, citizenship, and contact information. Anyone attending the meeting will be required to present government-issued identification. Space is limited. You must make your request for an oral statement at least five business days prior to the meeting, and reasonable provisions will be made to include the presentation on the agenda. Public comment will follow the three-minute rule.

Minutes: The minutes of this meeting will be available for public review and copying within 60 days at the following website: http://energy.gov/fe/services/advisory-committees/methane-hydrate-advisory-committee.

Signed in Washington, DC, on February 22, 2019.
LaTanya Butler,
Deputy Committee Management Officer.

[FR Doc. 2019-03808 Filed 3-1-19; 8:45 am]

BILLING CODE 6450-01-P